DEPARTMENT OF EDUCATION

[CFDA Nos. 84.007, 84.032, 84.033, 84.038, 84.063, 84.069, and 84.268]

Student Assistance General Provisions, Federal Supplemental Educational Opportunity Grant, Federal Family Education Loan, Federal Work-Study, Federal Perkins Loan, Federal Pell Grant, Leveraging Educational Assistance Partnership, and William D. Ford Federal Direct Loan Programs

ACTION: Notice of deadline dates for receipt of applications, reports, and other records for the 2005-2006 award year.

SUMMARY: The Secretary announces deadline dates for the receipt of documents and other information from institutions and applicants for the Federal student aid programs authorized under Title IV of the Higher Education Act of 1965, as amended, for the 2005-2006 award year. The Federal student aid programs include the Federal Perkins Loan, Federal Work-Study, Federal Supplemental Educational Opportunity Grant, Federal Family Education Loan, William D. Ford Federal Direct Loan, Federal Pell Grant, and Leveraging Educational Assistance Partnership programs.

These programs, administered by the U.S. Department of Education (Department), provide financial assistance to students attending eligible postsecondary educational institutions to help them pay their educational costs.

Deadline and Submission Dates: See Tables A and B at the end of this notice.

Table A—Deadline Dates for Application Processing and Receipt of Student Aid Reports (SARs) or Institutional Student Information Records (ISIRs) by Institutions

Table A provides deadline dates for application processing, including corrections and submission of signatures, submission of verification documents and, for purposes of the Federal Pell Grant Program, receipt by institutions of SARs or ISIRs. We are using only three deadline dates in Table A for the 2005-2006 award year. The single date for the submission of a Free Application for Federal Student Aid (FAFSA) is June 30, 2006, regardless of the method that the applicant uses to submit the FAFSA. September 15, 2006 is the deadline date for the submission and receipt of a signature page (if required), corrections, changes of addresses or schools, or requests for a duplicate SAR. September 22, 2006 is the deadline date for the submission and receipt of all other documents and materials that are specified in Table A.

Table B—Federal Pell Grant Program Submission Dates for Disbursement Information by Institutions

Table B provides the earliest submission and deadline dates for institutions to submit Federal Pell Grant disbursement records to the Department's Common Origination and Disbursement (COD) System.

In general, an institution must submit Federal Pell Grant disbursement records no later than 30 days after making a Federal Pell Grant disbursement or becoming aware of the need to adjust a student's previously reported Federal Pell Grant disbursement. In accordance with the regulations in 34 CFR 668.164, we consider that Federal Pell Grant funds are disbursed on the earlier of the date that the institution: (a) Credits those funds to a student's account in the institution's general ledger or any subledger of the general ledger, or (b) pays those funds to a student directly. We consider that Federal Pell Grant funds are disbursed even if an institution uses its own funds in advance of receiving program funds from the Department. An institution's failure to submit disbursement records within the required 30-day timeframe may result in an audit or program review finding. In addition, the Secretary may initiate an adverse action, such as a fine or other penalty for such failure.

Other Sources for Detailed Information

We publish a detailed discussion of the Federal student aid application process in the following publications:

• 2005-2006 Student Guide.

• Funding Your Education.

• 2005-2006 High School Counselor's Handbook.

• A Guide to 2005-2006 SARs and ISIRs.

• 2005-2006 Federal Student Aid Handbook.

Additional information on the institutional reporting requirements for the Federal Pell Grant Program is contained in the 2005-2006 Common Origination and Disbursement (COD) Technical Reference, which is available at the Information for Financial Aid Professionals Web site at: http://www.ifap.ed.gov.

Applicable Regulations: The following regulations apply: (1) Student Assistance General Provisions, 34 CFR part 668 and (2) Federal Pell Grant Program, 34 CFR part 690.

FOR FURTHER INFORMATION CONTACT: Harold McCullough, U.S. Department of Education, Federal Student Aid, 830 First Street, NE, Union Center Plaza, room 113E1, Washington, DC 20202-5345. Telephone: (202) 377-4030.

If you use a telecommunications device for the deaf (TDD), you may call the Federal Relay Service (FRS) at 1-800-877-8339.

Individuals with disabilities may obtain this document in an alternative format (e.g., Braille, large print, audiotape, or computer diskette) on request to the program contact person listed under FOR FURTHER INFORMATION CONTACT.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in PDF at the following site: http://www.ifap.ed.gov.

Note: The official version of this document is the document published in the Federal Register. Free Internet access to the official edition of the Federal Register and the Code of Federal Regulations is available on GPO Access at: http://www.gpoaccess.gov/nara/index.html.

Program Authority: 20 U.S.C. 1070a, 1070b-1070b-3, 1070c-1070c-4, 1071-1087-2, 1087a-1087j, and 1087aa-1087ii; 42 U.S.C. 2751-2756b.

Dated: June 2, 2005.
Theresa S. Shaw,
Chief Operating Officer, Federal Student Aid.

BILLING CODE 4000-01-P

[FR Doc. 05-11291 Filed 6-6-05; 8:45 am]

BILLING CODE 4000-01-C